DEPARTMENT OF ENERGY

Federal Energy Regulatory Commission

Notice of Effectiveness of Exempt Wholesale Generator Status

| Docket Nos.
AEM Wind, LLC | EG17-90-000
Deerfield Wind, LLC | EG17-91-000
Tule Wind LLC | EG17-92-000
Twin Buttes Wind II LLC | EG17-93-000
El Cabo Wind LLC | EG17-94-000
Henderson County Solar LLC | EG17-95-000
Santa Rita Wind Energy LLC | EG17-96-000
Caldwell County Solar LLC | EG17-97-000
Buckthorn Westex, LLC | EG17-98-000
Horse Hollow Wind III, LLC | EG17-99-000
Post Wind, LLC | EG17-100-000
Shoe Creek Solar, LLC | EG17-101-000
Vista Energy Storage, LLC | EG17-102-000

Take notice that during the month of June 2017, the status of the above-captioned entities as Exempt Wholesale Generators became effective by operation of the Commission's regulations. 18 CFR 366.7(a) (2016).

Dated: July 3, 2017.
Kimberly D. Bose,
Secretary.

[FR Doc. 2017-14382 Filed 7-7-17; 8:45 am]

BILLING CODE 6717-01-P